DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 27070-27071, dated May 8, 2012) is amended to reorganize the Human Capital and Resources Management Office, Office of the Chief Operating Officer, Centers for Disease Control and Prevention.

Section C-B, Organization and Functions, is hereby amended as follows:

Delete in its entirety the titles and functional statements for the Human Capital and Resources Management Office (CAJQ) and insert the following:

Human Capital and Resources Management Office (CAJ0). (1) Provides leadership, policy formation, oversight, guidance, service, and advisory support and assistance to the Centers for Disease Control and Prevention (CDC) and the Agency for Toxic Substances and Disease Registry (ATSDR); (2) collaborates as appropriate, with the CDC Office of the Director (OD), Centers/Institute/Offices (CI0s), domestic and international agencies and organizations; and provides a focus for short- and long-term planning within the Human Capital and Resource Management Office (HCRM0); (3) develops and administers human capital and human resource management policies; (4) serves as the business steward for all CDC developed human capital and human resources management systems and applications; (5) develops, maintains, and supports information systems to conduct personnel activities and provide timely information and analyses of personnel and staffing to management and employees; (6) conducts and coordinates human resources management for civil service and Commissioned Corps personnel; (7) manages the administration of fellowship programs; (8) conducts recruitment, special emphasis, staffing, position classification, position management, pay and leave administration, work-life programs, performance management, employee training and development, and employee and labor relations programs; (9) maintains personnel records and reports, and processes personnel actions and documents; (10) administers the federal life and health insurance programs; (11) administers employee recognition, suggestion, and incentive awards programs; (12) furnishes advice and assistance in the processing of workers compensation claims; (13) interprets standards of conduct regulations, reviewing financial disclosure reports, and offer ethics training and counseling services to CDC employees; (14) maintains liaison with the Department of Health and Human Services (HHS) and the Office of Personnel Management (OPM) on human resources management, policy, compliance and execution of the Human Capital Assessment and Accountability Framework (HCAAF); (15) conducts organizational assessments to determine compliance with human capital policies, guidance, regulatory and statutory requirements of federal human capital and resource management programs and initiatives; (16) plans, directs, and manages CDC-wide training programs, monitors compliance with mandatory training requirements, and maximizes economies of scale through systematic planning and valuation of agency-wide training initiatives to assist employees in achieving required competencies; (17) assists in the definition and analysis of training needs and develops and evaluates instructional products designed to meet those needs; (18) develops, designs, and implements a comprehensive leadership and career management program for all occupational series throughout CDC; (19) provides technical assistance in organizational development, career management, employee development, and training; (20) collaborates and works with partners, internally and externally, to develop workforce goals and a strategic vision for the public health workforce; and (21) provides support for succession planning, forecasting services, and environmental scanning to ascertain both current and future public health workforce needs.

Office of the Director (CAJQ1). (1) Provides leadership and overall direction for HCRMO; (2) develops goals and objectives, and provides leadership, policy formation, oversight, and guidance in program planning and development; (3) plans, coordinates, and develops strategic plans for HCRMO; (4) develops and administers human capital and human resource management policies and procedures; (5) coordinates all program reviews; (6) reviews, prepares, coordinates, and develops proposed legislation, Congressional testimony, and briefing materials; (7) establishes performance metrics and coordinates quarterly reviews to ascertain status on meeting of the metrics; (8) coordinates budget formulation, negotiation, and execution of financial resources; (9) identifies relevant scanning/benchmarking on workforce and career development processes, services and products; (10) provides leadership and guidance on new developments and national trends for public health workforce; (11) establishes and oversees policies governing human capital and human resources management, and works collaboratively within CDC and other components in planning, developing and implementing policies; (12) develops strategic plans for information technology and information systems required to support human capital and human resources management information requirements; (13) serves as the business steward for CDC-wide human capital and human resources administrative systems and advocates and supports the commitment of resources to application development; (14) coordinates HCRMO information resource management activities with the Management Information Systems Office and the related governance groups; (15) coordinates management information systems and analyses of data for improved utilization of resources; (16) serves as a liaison with HHS on the utilization and deployment of centralized HHS human capital and human resource management systems and applications; (17) interprets standards of conduct regulations, reviewing financial disclosure reports, and offers ethics training and counseling services to CDC employees; and (18) conducts demographic analysis of the CDC work force and publishes results in management reports.

Ethics Program Activity (CAJQ12). (1) Provides leadership for the CDC Ethics program activity in accordance with conflict of interest statutes at Title 18 U.S.C. Chapter 11 and standards of conduct regulation at 5 CFR Part 2635; (2) serves as a liaison with the Office of Government Ethics (OGE) and HHS on ethics matters; (3) interprets standards of conduct regulations; (4) reviews financial disclosure reports for potential conflicts of interest; (5) provides continuing ethics training and counseling services; (6) counsels employees on a variety of ethics issues to ensure that CDC employees avoid situations that could violate ethics laws and undermine the public's trust in Government; and (7) reviews and approves outside activity, official duty, and award requests for employees.

Commissioned Corps Activity (CAJQ14). (1) Serves as the primary contact for CDC management and employees in obtaining the full range of personnel assistance and management services for Commissioned Corps personnel; (2) provides leadership, technical assistance, guidance, and consultation in benefits, entitlements, and obligations of the Commissioned Corps to commissioned officers; (3) plans, directs, and manages the Department of Defense's Defense Eligibility Enrollment Report System (DEERS) identification card program for all active duty officers, retirees, and eligible dependents; (4) implements and evaluates Commissioned Corps policies and systems such as salary/benefits, performance management, assignments, health benefits, training, travel, relocation, and retirement; (5) manages the CDC's Commissioned Corps promotion and awards programs; (6) maintains liaison and coordinates personnel services for Commissioned Corps personnel with the Office of Commissioned Corps Operations and the Office of Surgeon General; (7) coordinates the agency deployment status of commissioned officers assigned to CDC and manages the Emergency Operation Centers (EOC) Commissioned Corps deployment desk during activation of the CDC EOC; and (8) establishes and maintains personnel and payroll records and files.

Policy and Communications Activity (CAJQ15). (1) Provides leadership, oversight, guidance and support for policy and communication activities supporting HCRMO; (2) develops, administers and monitors the implementation of human capital and human resources management policies and operational procedures as directed by OPM, HHS, CDC or other pertinent federal agencies to ensure consistent application across CDC; (3) serves as the focal point for the analysis, development, technical review and clearance of controlled correspondence and non-scientific policy documents that require approval/signature from the HCRMO Director or other senior CDC leadership; (4) responds to and coordinates requests from the Office of the Director for issues management information to ensure efficient responses to the Director's priority issues; (5) provides and manages a wide range of communication services in support of HCRMO; (6) facilitates open and transparent employee communication; (7) develops and implements internal and external public relations strategies to communicate upward and outward to customers, partners, and other stakeholders; and (8) utilizes multiple channels and methods to communicate and disseminate HCRMO policies, announcements, procedures, information, and other relevant messages.

Operations Management Activity (CAJQ17). (1) Provides leadership, oversight, and guidance in the management and operations of HCRMO programs; (2) provides and oversees the delivery of HCRMO-wide administrative management and support services in the areas of fiscal management, personnel, travel, records management, internal controls, and other administrative services; (3) prepares annual budget formulation and budget justifications; (4) coordinates HCRMO requirements relating to contracts, grants, cooperative agreements, and reimbursable agreements; (5) develops and implements administrative policies, procedures, and operations, as appropriate, for HCRMO, and prepares special reports and studies, as required, in the administrative management areas; and (6) maintains liaison with related staff offices and other officials of CDC.

Strategic Programs Office (CAJOB). (1) Provides a broad array of strategic programs, workforce support, and development services; (2) develops and implements methodologies to measure, evaluate, and improve human capital results to ensure mission alignment; (3) assesses and evaluates the overall effectiveness and compliance of human resources programs and policies related to merit-based decision-making and compliance with laws and regulations; (4) provides targeted and strategic technical assistance in organizational development, career management, employee development, and training to CDC CIOs; (5) works with OPM, HHS, and CDC Governance Boards and agency managers to carry out human capital management planning and development activities; (6) establishes, coordinates, develops, and monitors implementation of human capital initiatives and the agency Strategic Human Capital Management Plan; (7) manages recruitment, outreach, and oversight of the Oak Ridge Institute for Science and Education (ORISE), Guest Researcher, Student Interns, and Fellowship programs to meet customer strategic human capital management needs; (8) provides recruitment, retention, consultation and support to customers, including strategies and resources available to effectively recruit, retain, and plan for the succession of employees; (9) facilitates the hiring of members from underrepresented groups, ensuring a more prepared, diverse, and sustainable workforce; (10) conducts organizational evaluations and audits to determine regulatory compliance and adherence to merit system principles utilizing the Human Capital Assessment and Accountability Framework (HCAAF); (11) serves as the liaison to HHS in the development, maintenance, and support of Department-wide human resource information systems and; applications; (12) serves as a business steward for all CDC developed human capital and human resources management systems and applications; (13) facilitates the administration, analysis, reporting and recommendations for improvement in regards to annual employee surveys; (14) supports reporting requirements with Office of Management and Budget (OMB) Annual Performance Report and Performance Plan; (15) provides business strategy, data analytics, and reporting services; (16) performs analysis, forecasting, and modeling to interpret quantitative and qualitative data; (17) reports and evaluates organizational performance outcomes on key measures and metrics; and (18) manages workload and workflow activities for service optimization.

CDC University Office (CAJQC). (1) Provides agency-wide leadership and guidance in all functional areas related to training and career development; (2) designs, develops, implements and evaluates a comprehensive strategic human resource leadership and career training and development program for all occupational series throughout CDC; (3) develops and implements training strategies and activities that contribute to the agency's mission, goals and objectives; (4) maximizes economies of scale through systematic planning, administration, delivery, and evaluation of agency-wide training initiatives to assist CDC employees in achieving required competencies; (5) development of retraining activities for CDC managers/employees affected by organizational changes (e.g. major reorganizations, outsourcing initiatives, etc.); (6) maintains employee training records; (7) develops and validates occupational and functional competencies and develops related training plans and career maps; (8) develops and administers professional development programs; (9) administers and monitors the Training and Learning Management System for compliance with the Government Employees Training Act; (10) conducts training needs assessment of employees, provides analysis and data to correlate individual training with strategic plans; (11) develops and maintains assessment tools to identify core competency requirements for each occupational series throughout the agency; (12) provides consultation, guidance, and technical assistance to managers and employees in organizational development, career management, employee development, and training; (13) develops and delivers education and training programs to meet the identified needs of the workforce; (14) promotes, develops, and implements training needs assessment methodology to establish priorities for training interventions; (15) collaborates, as appropriate, with the CDC/OD, CIOs, HHS, OPM and other domestic and international agencies and organizations; and (16) develops and implements policies related to employee training.

Career Development Activity (CAJQC2). (1) Designs, develops, implements and evaluates training activities to increase competency in the area of career development strategies; (2) maximizes economies of scale through systematic planning, administration, delivery, and evaluation of agency-wide training initiatives to assist CDC employees in achieving required competencies; (3) development of retraining activities for CDC managers/employees affected by organizational changes (e.g. major reorganizations, outsourcing initiatives, etc.); (4) maintains employee training records; (5) develops and validates occupational and functional competencies and develops related training plans and career maps; (6) develops and administers professional development programs to include mentoring and coaching for enhanced performance; (7) conducts training needs assessment of employees, provides analysis and data to correlate individual training with strategic plans; (8) develops and maintains assessment tools to identify core competency requirements for each occupational series throughout the agency; (9) provides consultation, guidance, and technical assistance to managers and employees in organizational development, career management, employee development, and training; (10) promotes, develops, and implements training needs assessment methodology to establish priorities for training interventions; (11) collaborates, as appropriate, with the CDC/OD, CIOs, HHS, OPM and other domestic and international agencies and organizations; and (12) implements procedural components in compliance to the long term education training policy.

Leadership Development Activity (CAJQC3). (1) Designs, develops, implements and evaluates a comprehensive leadership development curriculum for leaders at all levels throughout CDC; (2) develops and implements leadership training strategies and activities that contribute to the agency's mission, goals and objectives; (3) maximizes economies of scale through systematic planning, administration, delivery, and evaluation of agency-wide training initiatives to assist CDC employees in achieving required competencies; (4) maintains employee training records; (5) develops and administers professional development programs such as executive coaching; (6) provides consultation, guidance, and technical assistance to managers and employees around leadership training and development activities; (7) develops and delivers education and training programs to meet the identified needs of the workforce; (8) collaborates, as appropriate, with the CDC/OD, CIOs, HHS, OPM and other domestic and international agencies and organizations; and (9) implements procedural components in compliance to the mandatory supervisory training requirements policy.

Public Health Training Activity (CAJOC4). (1) Designs, develops, implements and evaluates a comprehensive public health training curriculum for employees engaged in public health activities throughout CDC; (2) develops and implements public health, science, research and medicine and preparedness and emergency response training strategies and activities that contribute to the agency's mission, goals and objectives; (3) maximizes economies of scale through systematic planning, administration, delivery, and evaluation of agency-wide training initiatives to assist CDC employees in achieving required competencies; (4) maintains employee training records; (5) provides consultation, guidance, and technical assistance to managers and employees associated within curriculum scope; (6) develops and delivers education and training programs to meet the identified needs of the workforce; and (7) collaborates, as appropriate, with the CDC/OD, CIOs, HHS, OPM and other domestic and international agencies and organizations.

Business and Technology Training Activity (CAJQC5). (1) Designs, develops, implements and evaluates a comprehensive business and technology training curriculum for employees throughout CDC; (2) develops and implements financial, acquisition and project management, communication and office skills and information technology training strategies and activities that contribute to the agency's mission, goals and objectives; (3) maximizes economies of scale through systematic planning, administration, delivery, and evaluation of agency-wide training initiatives to assist CDC employees in achieving required competencies; (4) maintains employee training records; (5) provides consultation, guidance, and technical assistance to managers and employees associated within curriculum scope; (6) develops and delivers education and training programs to meet the identified needs of the workforce; (7) collaborates, as appropriate, with the CDC/OD, CIOs, HHS, OPM and other domestic and international agencies and organizations.

Workforce Relations Office (CAJQD). (1) Provides leadership, technical assistance, guidance, and consultation on employee and labor relations, employee services and assistance, work-life programs, performance management, incentive awards, pay, leave and benefits administration; on-the-job injuries and exposures to infectious diseases; debt complaints; and other job-related issues; (2) develops and administers labor-management and employee relations program including: disciplinary actions, grievances and appeals, labor negotiations, collective bargaining, management representation before third parties, and partnership activities; (3) serves as liaison with the Office of Safety Health and Environment and other CDC staff for personnel matters relating to substance abuse and other employee assistance programs; (4) coordinates and processes garnishment, child support, and other collection actions for CDC employees; (5) plans, directs, coordinates, and conducts contract negotiations on behalf of agency management with labor organizations holding exclusive recognition; (6) represents management in third party proceedings involving labor and employee relations issues; (7) serves as the authority to ensure validity, consistency, and legality of employee relations matters concerning grievances (both negotiated and agency procedures), disciplinary actions, adverse actions, and resultant third party hearings; (8) plans and coordinates all programmatic activities to include preparation of disciplinary and adverse action letters and all final agency decisions in grievances and appeals; (9) provides technical advice, consultation, and training on matters of employee conduct and performance; (10) provides consultation, guidance, and technical advice to human resources specialists, managers, and employees on the development, coordination and implementation of all work-life program initiatives; (11) provides personnel services relating to on-the-job injuries and exposures to infectious diseases; (12) facilitates the development and implementation of an Agency-wide strategic approach to monitoring, evaluating, aligning, and improving performance management policies and practices for all CDC performance management systems (Title 5, Title 42, Senior Executive Service (SES), Senior Biomedical Research Service (SBRS), and the Commissioned Officer Effectiveness Report (COER); (13) coordinates performance management, strategic rewards and recognition programs and systems; (14) provides human resources services and assistance on domestic and international employee benefits and leave administration; (15) serves as liaison between CDC and the HHS payroll office resolving discrepancies with pay and leave; (16) administers the leave donor program and processes time and attendance amendments; (17) administers the federal life and health insurance programs; (18) provides policy guidance and technical advice and assistance on retirement, the Thrift Savings Plan, health/life insurance, and savings bonds; (19) furnishes advice and assistance in the processing of Office of Workers' Compensation Program claims and the Voluntary Leave Donation Program; and (20) administers and maintains the customer service help desk.

Employee and Labor Relations Activity (CAJQD2). (1) Provides leadership, technical assistance, guidance, and consultation on employee and labor relations, employee services; (2) develops and administers labor-management and employee relations program including: disciplinary actions, grievances and appeals, labor negotiations, collective bargaining, management representation before third parties, and partnership activities; (3) serves as liaison with the Office of Safety Health and Environment and other CDC staff for personnel matters relating to substance abuse and other employee assistance programs; (4) coordinates and processes garnishment, child support, and other collection actions for CDC employees; (5) plans, directs, coordinates, and conducts contract negotiations on behalf of agency management with labor organizations holding exclusive recognition; (6) represents management in third party proceedings involving labor and employee relations issues; (7) serves as the authority to ensure validity, consistency, and legality of employee relations matters concerning grievances (both negotiated and agency procedures), disciplinary actions, adverse actions, and resultant third party hearings; (8) plans and coordinates all programmatic activities to include preparation of disciplinary and adverse action letters and all final agency decisions in grievances and appeals; (9) provides technical advice, consultation, and training on matters of employee conduct and performance; and (10) provides consultation, guidance, and technical advice to human resources specialists, managers, and employees on the development.

Employee Benefits, Worklife Programs and Payroll Activity (CAJQD3). (1) Provides consultation, guidance, and technical advice to human resources specialists, managers, and employees on the development, coordination and implementation of all Work-Life program initiatives; (2) provides personnel services relating to on-the-job injuries and exposures to infectious diseases; (3) provides human resources services and assistance on domestic and international employee benefits and leave administration; (4) serves as liaison between CDC and the HHS payroll office resolving discrepancies with pay and leave; (5) administers the leave donor program and processes time and attendance amendments; (6) administers the federal life and health insurance programs; (7) provides policy guidance and technical advice and assistance on retirement, the Thrift Savings Plan, health/life insurance, and savings bonds; and (8) furnishes advice and assistance in the processing of Office of Workers' Compensation Program claims and the Voluntary Leave Donation Program.

Performance Management, Strategic Rewards and Recognitions Activity (CAJQD4). (1) Facilitates the development and implementation of an Agency-wide strategic approach to monitoring, evaluating, aligning, and improving performance management policies and practices for all CDC performance management systems (Title 5, Title 42, SES, SBRS, and the COER); and (2) coordinates performance management, strategic rewards and recognition programs and systems.

Customer Service Help Desk Activity (CAJQD5). (1) Provides technical assistance, guidance, and consultation on employee and labor relations, employee services, pay, leave and benefits administration; staffing and recruitment, position classification; and (2) administers and maintains the customer service help desk.

Client Services Office (CAJQE). (1) Serves as the primary contact for CDC management and employees in obtaining the full range of personnel assistance and management services for civil service personnel; (2) provides leadership, technical assistance, guidance, and consultation in human resource utilization, position management, classification and pay administration, recruitment, staffing, placement, reorganizations, program evaluation, and personnel records and files management; (3) maintains liaison with HHS and OPM in the area of human resources management; (4) provides leadership in identifying the CIO recruiting needs, and assesses, analyzes, and assists CDC programs in developing and executing short- and long-range hiring plans to meet these needs; (5) provides guidance to CDC organizations in the development of staffing plans and job analyses, evaluating/classifying position descriptions, conducting position management studies, and responding to desk audit requests; (6) processes personnel actions by determining position classification, issuing vacancy announcements, assisting in development of selection criteria, conducting examining under delegated examining authority, conducting candidate rating and ranking under CDC Merit Promotion Plan, making qualification determinations, determining pay, conducting reductions-in-force, effecting appointments and processing other actions; (7) codes and finalizes all personnel actions in the automated personnel data system; personnel action processing, data quality control/assessment, and files/records management; (8) conducts new employee orientation; (9) plans, develops, implements, and evaluates systems to ensure consistently high quality human resources services; (10) establishes objectives, standards, and internal controls; (11) evaluates, analyzes, and makes recommendations to improve personnel authorities, policies, systems, operations, and procedures; (12) manages various staffing programs such as the CDC summer program, Priority Placement Program, Priority Consideration Program, the Interagency Career Transition Assistance Program, and the Career Transition Assistance Program and other special emphasis programs; (13) provides consultation, guidance, and technical advice on recruitment and special emphasis policies, practices, and procedures, including search committees; strategizes on the best approach to recruitment at specific events, and designs and develops recruitment materials for events; (14) establishes and maintains personnel records, files, and controls; (15) establishes and maintains the official personnel files system and administers personnel records storage and disposal program; (16) collaborates with Personnel Security in initiating suitability background checks and fingerprints for all CDC personnel; (17) responds to employment verification inquiries; and (18) administers the Special Emphasis Programs and Student Intern/Fellowship Programs.

Customer Staffing Activity 1 (CAJQE2). The Activity supports the Centers for Disease Control, Office of the Director, Business Services Offices, Staff Offices, Office of Public Health Preparedness and Response, Office of Surveillance, Epidemiology and Laboratory Services, Office of State, Tribal, Local and Territorial Support, by performing the following: (1) Provides leadership in identifying CIO recruiting needs, and assesses, analyzes, and assists CDC programs in developing and executing short- and long-range hiring plans to meet these needs; (2) provides guidance to CDC organizations in the development of staffing plans and job analyses; (3) processes personnel actions by issuing vacancy announcements, assisting in development of selection criteria, conducting examining under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; and (7) provides consultation, guidance, and technical advice on recruitment and special emphasis policies, practices, and procedures, including search committees; strategizes on the best approach to recruitment at specific events, and designs and develops recruitment materials for events.

Customer Staffing Activity 2 (CAJQE3). The Activity supports the Office of Non-communicable Diseases, Injury and Environmental Health and Subordinate Centers, Agency for Toxic Substances and Disease Registry and National Institute for Occupational Safety and Health, by performing the following: (1) Provides leadership in identifying CIO recruiting needs, and assesses, analyzes, and assists CDC programs in developing and executing short- and long-range hiring plans to meet these needs; (2) provides guidance to CDC organizations in the development of staffing plans and job analyses; (3) processes personnel actions by issuing vacancy announcements, assisting in development of selection criteria, conducting examining under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; and (7) provides consultation, guidance, and technical advice on recruitment and special emphasis policies, practices, and procedures, including search committees; strategizes on the best approach to recruitment at specific events, and designs and develops recruitment materials for events.

Customer Staffing Activity 3 (CAJQE4). The Activity supports the Center for Global Health, Office of Infectious Diseases and Subordinate Centers by performing the following: (1) Provides leadership in identifying CIO recruiting needs, and assesses, analyzes, and assists CDC programs in developing and executing short- and long-range hiring plans to meet these needs; (2) provides guidance to CDC organizations in the development of staffing plans and job analyses; (3) processes personnel actions by issuing vacancy announcements, assisting in development of selection criteria, conducting examining under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; and (7) provides consultation, guidance, and technical advice on recruitment and special emphasis policies, practices, and procedures, including search committees; strategizes on the best approach to recruitment at specific events, and designs and develops recruitment materials for events.

Classification and Advisory Activity (CAJQE5). (1) Provides leadership, technical assistance, guidance, and consultation in human resource utilization, position management, classification and pay administration; (2) provides leadership in identifying CIO classification and position management needs; (3) provides guidance to CDC/ATSDR organizations in the development, evaluation/classification of position descriptions; (4) conducts position management studies and responds to desk audit requests; (5) codes and finalizes all personnel actions in the automated personnel data system; data quality control/assessment, and files/records management; and (6) reviews all CDC/ATSDR reorganization proposals and provides advice on proposed staffing plans and organizational structures.

Technical Services Activity (CAJOE6). (1) Processes personnel actions by determining pay, conducting reductions-in-force, effecting appointments and processing other actions; (2) codes and finalizes all personnel actions in the automated personnel data system; personnel action processing, data quality control/assessment, and files/records management; (3) conducts new employee orientation; (4) establishes objectives, standards, and internal controls; (5) evaluates, analyzes, and makes recommendations to improve personnel authorities, policies, systems, operations, and procedures; (6) establishes and maintains personnel records, files, and controls; (7) establishes and maintains the official personnel files system and administers personnel records storage and disposal program; (8) collaborates with Personnel Security in initiating suitability background checks and fingerprints for all CDC personnel; and (9) responds to employment verification inquiries.

Customer Staffing Activity 4 (CAJQE7). The Activity supports the recruitment and staffing services for CDC's international workforce by performing the following: (1) Provides leadership in identifying the CDC international workforce recruiting needs, and assesses, analyzes, and assists programs in developing and executing short- and long-range hiring plans to meet these needs; (2) provides guidance to CDC in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment and special emphasis policies, practices, and procedures, including search committees; strategizes on the best approach to recruitment at specific events, and designs and develops recruitment materials for events; (8) coordinates the provision of benefits, allowances, special pay requirements, labor and employee relations support services; (9) consults with the Department of State on utilization of authorities to hire locally employed staff and coordination of records management requirements.

Executive and Scientific Resources Office (CAJQG). (1) Provides leadership, technical assistance, guidance, and consultation in the administration of policies and procedures for appointment of individuals through the SBRS, SES, distinguished consultants, experts, consultants, and fellows under Title 42 appointment authorities; (2) provides advisory services, and technical assistance on pay and compensation guidelines in accordance with OPM rules and regulations, HHS and CDC established pay and compensation recommendation policies, and procedures; (3) provides expert human resources advisory services and technical assistance support to the CDC performance review boards and compensation committees; (4) reviews actions for statutory and regulatory compliance; (5) manages strategic recruitment, relocation, and retention incentives to facilitate attraction of a quality, diverse workforce to ensure accomplishment of the CDC mission; (6) provides performance management training for all SES and Title 42 executives with emphasis on performance systems, timelines, supervisory and employee responsibilities; (7) provides guidance on establishing performance plans, conducting mid-year reviews, and conducting final performance rating discussions and closing performance plans; (8) develops and maintains a standard Department-wide performance management system and forms for executives; (9) conducts reviews of SES performance plans and appraisals and provide feedback; (10) prepares and submits SES performance system certification request to OPM and OMB; (11) processes performance awards and performance-based pay adjustments; (12) provides advice, assistance, templates and training workshops on performance award and Presidential Rank Award requirements; (13) manages the HHS Executive Development Program, including developmental activities, rotational assignments, and the Candidate Development Program; advise on development of executive succession planning activities; and (14) provides program guidance, administration, and oversight of CDC immigration and visa programs.

Senior Executive Compensation and Performance Activity (CAJQG2). (1) Provides advisory services, and technical assistance on pay and compensation guidelines in accordance with OPM rules and regulations, HHS and CDC established pay and compensation recommendation policies, and procedures; (2) provides expert human resources advisory services and technical assistance support to the CDC performance review boards and compensation committees; (3) reviews actions for statutory and regulatory compliance; (4) manages strategic recruitment, relocation, and retention incentives to facilitate attraction of a quality, diverse workforce to ensure accomplishment of the CDC mission; (5) provides performance management training for all SES and Title 42 executives with emphasis on performance systems, timelines, supervisory and employee responsibilities; (6) provides guidance on establishing performance plans, conducting mid-year reviews, and conducting final performance rating discussions and closing performance plans; (7) develops and maintains a standard Department-wide performance management system and forms for executives; (8) conducts reviews of SES performance plans and appraisals and provides feedback; (9) prepares and submits SES performance system certification request to OPM and OMB; (10) processes performance awards and performance-based pay adjustments; (11) provides advice, assistance, templates and training workshops on performance award and Presidential Rank Award requirements; and (12) manages the HHS Executive Development Program, including developmental activities, rotational assignments, and the Candidate Development Program; advises on development of executive succession planning activities.

Title 42 and Immigration Activity (CAJQG3). (1) Provides leadership, technical assistance, guidance, and consultation in the administration of policies and procedures for appointment of individuals through the distinguished consultants, experts, consultants, and fellows under Title 42 appointment authorities; and (2) provides program guidance, administration, and oversight of CDC immigration and visa programs.

Dated: July 3, 2012.
Sherri A. Berger,
Chief Operating Officer, Centers for Disease Control and Prevention.

[FR Doc. 2012-17991 Filed 7-25-12; 8:45 am]

BILLING CODE 4160-18-M